ENVIRONMENTAL PROTECTION AGENCY

40 CFR Part 52

[EPA-R09-OAR-2012-0021; FRL-9696-8]

Approval, Disapproval and Promulgation of Air Quality Implementation Plans; Arizona; Regional Haze State and Federal Implementation Plans

AGENCY: Environmental Protection Agency (EPA).

ACTION: Proposed rule; announcement of public hearing.

SUMMARY: EPA is announcing that a public hearing will be held on July 31, 2012 for the proposed rule, “Approval, Disapproval and Promulgation of Air Quality Implementation Plans; Arizona; Regional Haze State and Federal Implementation Plans”, which will be posted on EPA's Web site by July 5, 2012.

DATES: The public hearing will be held on July 31, 2012. See the Supplementary Information section for further details about the public hearing.

ADDRESSES: See the SUPPLEMENTARY INFORMATION section for hearing location.

FOR FURTHER INFORMATION CONTACT: If you have questions about the public hearing, please contact Thomas Webb, U.S. EPA, Region 9, phone (415) 947-4139, email webb.thomas@epa.gov. If you are a person with a disability under the ADA and require a reasonable accommodation for this event, please contact Philip Kum at kum.philip@epa.gov or at (415) 947-3566 by July 15, 2012.

SUPPLEMENTARY INFORMATION: Section 169A of the Clean Air Act (CAA) establishes as a national goal the “prevention of any future, and the remedying of any existing, impairment of visibility in mandatory Class I Federal areas which impairment results from manmade air pollution.” Arizona has twelve mandatory Class I areas; several Class I areas in other states are also affected by emissions from Arizona facilities.

Regional haze is visibility impairment caused by the cumulative air pollutant emissions from numerous sources over a wide geographic area. EPA's proposed Regional Haze Federal Implementation Plan (FIP) for Arizona will address the requirements of the CAA and EPA's regional haze regulations pertaining to Best Available Retrofit Technology (BART) for three electric generating stations in Arizona: Apache Generating Station, Cholla Power Plant and Coronado Generating Station. EPA will propose to address other facilities and other elements of the Arizona SIP in a later action. The proposed rule, “Approval, Disapproval and Promulgation of Air Quality Implementation Plans; Arizona; Regional Haze State and Federal Implementation Plans”, will be available by July 5, 2012 on the following Web site: http://www.epa.gov/region9/air/actions/arizona.html and will subsequently be published in the Federal Register.

The proposed rule and information on which the proposed rule relies will also be available in the docket for this action. Generally, documents in the docket will be available electronically at www.regulations.gov and in hard copy at EPA Region IX, 75 Hawthorne Street, San Francisco, California. While all documents in the docket are listed at www.regulations.gov, some information may be publicly available only at the hard copy location (e.g., copyrighted material, large maps), and some may not be publicly available in either location (e.g., Confidential Business Information). To inspect the hard copy materials, please schedule an appointment during normal business hours with the contact listed in the FOR FURTHER INFORMATION CONTACT section.

Public hearing: EPA will hold a public hearing at the following date, time and location to accept oral and written comments into the record:

Date: July 31, 2012.

Time: Open House: 4:00-5:00 p.m.

Public Hearing: 6:00-8:00 p.m.

Location: Sandra Day O'Connor Federal Courthouse, in the atrium and juror room, 401 W. Washington Street, Phoenix, AZ 85003-2118.

To provide an opportunity for questions and discussion, EPA will hold an open house prior to the public hearing. During this open house, EPA staff will be available to informally answer questions on our proposed rule. Any comments made to EPA staff during the open house must still be provided formally in writing or orally during the public hearing in order to be considered in the record.

The public hearing will provide the public with an opportunity to present data, views, or arguments concerning the proposed Regional Haze action for Arizona. EPA may ask clarifying questions during the oral presentations, but will not respond to the presentations at that time. Simultaneous translation in Spanish will be available during the public hearing. Written statements and supporting information submitted during the comment period will be considered with the same weight as any oral comments and supporting information presented at the public hearing. Please consult the proposed rule for guidance on how to submit written comments to EPA.

At the public hearing, the hearing officer may limit the time available for each commenter to address the proposal to five minutes or less if the hearing officer determines it is appropriate. Any person may provide written or oral comments and data pertaining to our proposal at the public hearing. We will include verbatim transcripts, in English, of the hearing and written statements in the rulemaking docket.

List of Subjects in 40 CFR Part 52

Environmental protection, Air pollution control, Incorporation by reference, Intergovernmental relations, Nitrogen oxides, Sulfur dioxide, Particulate matter, Reporting and recordkeeping requirements, Visibility, Volatile organic compounds.

Dated: June 27, 2012.
Deborah Jordan,
Air Division Director, Region IX.

[FR Doc. 2012-16705 Filed 7-6-12; 8:45 am]

BILLING CODE 6560-50-P